DEPARTMENT OF THE INTERIOR

Bureau of Land Management

[AK-933-1430-ET; A-023002]

Notice of Proposed Extension of Withdrawal and Opportunity for Public Meeting; Alaska

AGENCY: Bureau of Land Management, Interior.

ACTION: Notice.

SUMMARY: The U.S. Department of the Army proposes to extend Public Land Order No. 6244 for a 20 year period. This order withdrew public land from operation of the surface land and mining laws, for military purposes at the Fort Richardson Military Reservation known as the Davis Range Tract M. This notice also gives an opportunity to comment on the proposed action and to request a public meeting.

DATES: Comments and requests for a public meeting must be received by June 13, 2001.

ADDRESSES: Comments and meeting requests should be sent to the Alaska State Director, BLM Alaska State Office, 222 West 7th Avenue, No. 13, Anchorage, Alaska 99513-7599. You can access information about sending comments electronically at: www.anchorage.ak.blm.gov/wdlcom02.html.

FOR FURTHER INFORMATION CONTACT: Robbie J. Havens, BLM Alaska State Office, 907-271-5477.

SUPPLEMENTARY INFORMATION: On February 13, 2001, the U.S. Department of the Army requested that Public Land Order No. 6244 be extended for an additional 20 year period. This withdrawal was made for cold weather survival and infantry tactical training purposes at the Fort Richardson Military Reservation known as the Davis Range Tract M. Public Land Order No. 6244 will expire on May 13, 2002.

This withdrawal comprises approximately 3,340 acres of public land located in Sections 6, 7, and 18, T. 12 N., R. 1 W., and Sections 1, 2, 3, 11, 12, and 13, T. 12 N., R. 2 W., Seward Meridian and is described in Public Land Order No. 6244. A complete description can be provided by the Alaska State Office at the address shown above.

For a period of 90 days from the date of publication of this notice, all persons who wish to submit comments, suggestions, or objections in connection with the proposed extension may present their views in writing to the Alaska State Director of the Bureau of Land Management at the address indicated above.

Notice is hereby given that an opportunity for a public meeting is afforded in connection with this proposed extension. All interested persons who desire a public meeting for the purpose of being heard on this proposed action must submit a written request to the Alaska State Director within 90 days from the date of publication of this notice. Upon determination by the authorized officer that a public meeting will be held, a notice of time and place will be published in the Federal Register at least 30 days before the scheduled date of the meeting.

This extension will be processed in accordance with the regulations set forth in 43 CFR 2310.4.

Dated: March 2, 2001.
C. Michael Brown,
Acting Chief, Lands Branch, Division of Lands, Minerals, and Resources.

[FR Doc. 01-6456 Filed 3-14-01; 8:45 am]

BILLING CODE 4310-JA-P